FEDERAL MARITIME COMMISSION

Agency Information Collection Activities; Revision of Currently Approved Collection

AGENCY: Federal Maritime Commission.

ACTION: Notice and request for comments.

SUMMARY: As part of its continuing effort to reduce paperwork and respondent burden, and as required by the Paperwork Reduction Act of 1995 (PRA), the Federal Maritime Commission (FMC or Commission) invites comments on a revision to submit an Information Collection Request (ICR) to the Office of Management and Budget (OMB) to collect information for requests for dispute resolution services submitted to its Office of Consumer Affairs and Dispute Resolution Services (CADRS).

DATES: Comments must be received by July 15, 2019.

ADDRESSES: You may send comments by the following methods. Please reference the information collection's title and OMB number in your comments.

• Email: omd@fmc.gov. Comments should be attached to the email as a Microsoft Word or text-searchable PDF document. Only non-confidential and public versions of confidential comments should be submitted by email.

• Mail: Karen V. Gregory, Managing Director, Office of the Managing Director, Federal Maritime Commission, 800 North Capitol Street NW, Washington, DC 20573.

FOR FURTHER INFORMATION CONTACT: To request more information or to obtain a copy of the data collection plans and draft instruments, email omd@fmc.gov or call Donna Lee at (202) 523-5800. When submitting comments or requesting information, please include the title of the information collection for reference. Comments submitted in response to this Notice will be included or summarized in the ICR to OMB. All comments are part of the public record and subject to disclosure.

SUPPLEMENTARY INFORMATION:

Title: Request for Dispute Resolution Service—Cruise.

OMB Control Number: 3072-0072.

Type of Review: Information Collection Revision.

Frequency of Response: On occasion.

Respondents/Affected Public: Companies or individuals seeking ombuds or mediation assistance from the Federal Maritime Commission's Office of Consumer Affairs and Dispute Resolution Services.

Estimated Total Number of Potential Annual Responses: 500.

Estimated Total Number of Responses From Each Respondent: 1.

Estimated Total Annual Burden Hours per Response: 20 minutes.

Total Estimated Number of Annual Burden Hours: 167.

Abstract: This is a revision to the currently-approved FMC Form-32 (Request for Dispute Resolution Service—Cruise). When requested by the public and the regulated industry, the FMC, through CADRS, provides ombuds and mediation services to assist parties in resolving passenger vessel (cruise) disputes without resorting to litigation or administrative adjudication. These functions focus on addressing issues that members of the regulated industry and the public may encounter at any stage of a commercial or customer dispute. In order to provide its ombuds and mediation services, CADRS needs certain identifying information about the involved parties and nature of the dispute. In response to requests for assistance from the public, CADRS requests this information from parties seeking its assistance. The collection and use of this information on a cruise dispute is integral to CADRS staff's ability to efficiently review the matter and provide assistance. Aggregated information may be used for statistical purposes. http://www.fmc.gov/resources/requesting_cadrs_assistance.aspx.

The proposed revision to Form FMC-32 would add a request for booking or ticket contract number and would remove a request to indicate whether the cruise departed from a U.S. port.

As required by the Administrative Dispute Resolution Act (ADRA), 5 U.S.C. 571 et seq., the information contained in these forms is treated as confidential and subject to the same confidentiality provisions as administrative dispute resolutions pursuant to 5 U.S.C. 574. Except as specifically set forth in 5 U.S.C. 574, neither CADRS staff nor the parties to a dispute resolution shall disclose any informal dispute resolution communication.

This information collection is subject to the PRA. The FMC may not conduct or sponsor a collection of information, and the public is not required to respond to an information collection, unless it is approved by the OMB under the PRA and displays a currently valid OMB Control Number. In addition, notwithstanding any other provisions of law, no person shall be subject to penalty for failing to comply with a collection of information that does not display a valid Control Number. See 5 CFR 1320.5(a) and 1320.6.

Request for Comments: The FMC solicits written comments from all interested persons about the proposed collection of information. The Commission specifically solicits information relevant to the following topics: (1) Whether the collection of information described above is necessary for the proper performance of the Commission's functions, including whether the information would have practical utility; (2) whether the estimated burden of the proposed collection of information is accurate; (3) whether the quality, utility, and clarity of the information to be collected could be enhanced; and (4) whether the burden imposed by the collection of information could be minimized by use of automated, electronic, or other forms of information technology.

The FMC will consider the comments received and amend the ICR as appropriate. The final ICR package will then be submitted to OMB for review and approval pursuant to 5 CFR 1320.10. FMC will issue another Federal Register announcement pursuant to 5 CFR 1320.5(a)(1)(iv) to announce the submission of the ICR to OMB and the opportunity to submit additional comments to OMB. If you have questions about this ICR or the approval process, please contact the person listed under FOR FURTHER INFORMATION CONTACT.

Authority: 46 U.S.C. 44101 et seq.

Rachel Dickon,
Secretary.

[FR Doc. 2019-10145 Filed 5-15-19; 8:45 am]

BILLING CODE 6731-AA-P